DEPARTMENT OF COMMERCE

International Trade Administration

A-428-830

Stainless Steel Bar from Germany: Final Results of New Shipper Review

AGENCY: Import Administration, International Trade Administration, Department of Commerce.

SUMMARY: This new shipper review covers stainless steel bar from Germany manufactured by Schmiedewerke Groditz GmbH (“SWG”). The Department of Commerce (“the Department”) published the preliminary results of this new shipper review on March 19, 2007. See Stainless Steel Bar from Germany: Preliminary Results of New Shipper Review, 72 FR 12765 (March 19, 2007) (“Preliminary Results”). Based on our analysis of the comments received, these final results do not differ from the Preliminary Results.

EFFECTIVE DATE: July 17, 2007.

FOR FURTHER INFORMATION CONTACT: Damian Felton, Audrey R. Twyman, or Brandon Farlander, AD/CVD Operations, Office 1, Import Administration, International Trade Administration, U.S. Department of Commerce, 14th Street and Constitution Avenue, NW, Washington DC 20230; telephone (202) 482-0133, (202) 482-3534, or (202) 482-0182, respectively.

SUPPLEMENTARY INFORMATION:

Background

On March 19, 2007, the Department published its Preliminary Results of this antidumping duty new shipper review of stainless steel bar from Germany. The Department conducted a verification of SWG's response from April 16 through 18, 2007, and issued the report on the verification findings for SWG on May 18, 2007. In response to the Department's invitation to comment on the Preliminary Results, petitioners¹ submitted their case brief on May 29, 2007, and SWG submitted its rebuttal brief on June 1, 2007.

¹ The petitioners are Carpenter Technology Corporation, Valbruna Slater Stainless, Inc., and Electralloy Corporation (collectively, “petitioners”).

Period of Review

The period of review (“POR”) covers March 1, 2005, through February 28, 2006.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar (“SSB”) includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Analysis of Comments Received

All issues raised in the case and rebuttal briefs by parties to this new shipper review are addressed in the Issues and Decision Memorandum from Stephen J. Claeys, Deputy Assistant Secretary for Import Administration, to David M. Spooner, Assistant Secretary for Import Administration (“Decision Memorandum”). A list of issues addressed in the Decision Memorandum is appended to this notice. The Decision Memorandum is on file in the Central Records Unit in Room B-099 of the main Commerce building, and can also be accessed directly on the Web at http://ia.ita.doc.gov/frn/index.html. The paper copy and electronic version of the Decision Memorandum are identical in content.

Changes Since the Preliminary Results

Based on our analysis of comments received, we have made no changes to our Preliminary Results.

Final Results of Review

As a result of our review, we determine that the following weighted-average margin exists for SWG for the period of March 1, 2005, through February 28, 2006:

Producer | Weighted-Average Margin (Percentage)
Schmiedewerke Groditz GmbH | 0.00

Assessment Rates

The Department shall determine, and U.S. Customs and Border Protection (“CBP”) shall assess, antidumping duties on all appropriate entries. Pursuant to 19 CFR 351.212(b)(1), for the U.S. sale made by the respondent for which it has reported the importer of record and entered value, we have calculated an importer-specific assessment rate based on the ratio of the total amount of antidumping duties calculated for the examined sales to the total entered value of the U.S. sale.

The Department clarified its “automatic assessment” regulation on May 6, 2003 (68 FR 23954). This clarification will apply to entries of subject merchandise during the period of review produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department will issue appropriate assessment instructions directly to CBP 15 days after the date of publication of these final results of the new shipper review.

Cash Deposit Requirements

The following cash deposit rate will be effective upon publication of the final results of this new shipper review for shipments of stainless steel bar from Germany entered, or withdrawn from warehouse, for consumption on or after the publication date, as provided by section 751(a)(2)(C) of the Tariff Act of 1930, as amended (“the Act”). For subject merchandise produced and exported by SWG, the cash deposit rate will be the rate established in the final results of this review, except if the rate is less than 0.50 percent and, therefore, de minimis, the cash deposit rate will be zero. This cash deposit requirement, when imposed, shall remain in effect until further notice.

Notification to Interested Parties

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: July 10, 2007.
David M. Spooner,
Assistant Secretary for Import Administration.

Appendix

I. Bona Fide Nature of U.S. Sale

Comment 1: Quantity, Pricing and Terms of Sale Differences

Comment 2: Principal/Agent Relationship

Comment 3: Mill Certificates

Comment 4: Communication with U.S. Customer

II. Home Market Date of Sale

Comment 5: Home Market Date of Sale

[FR Doc. E7-13803 Filed 7-16-07; 8:45 am]

BILLING CODE 3510-DS-S